DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5 P.M. in Room 4211, U.S. Department of Commerce, 14th Street and Constitution Avenue, NW., Washington, DC.

Docket Number: 00-030. Applicant: Central Institute for the Deaf, 4560 Clayton Avenue, St. Louis, MO 63110. Instrument: Electron Microscope, Model H-7500. Manufacturer: Hitachi, Japan. Intended Use: The instrument is intended to be used for studies of the biological ultrastructure of the nervous system during research regarding the development of the olivocochlear innervation based on procedures that represent a refinement in established techniques and methods developed specifically to address issues concerning this application. In addition, the instrument will be used for educational purposes for the training of graduate students, medical students, postdoctoral fellows and medical residents. Application accepted by Commissioner of Customs: September 13, 2000.

Docket Number: 00-031. Applicant: University of Georgia, The Applied Genetics Technology Resource and Business Facility (AGTEC), 111 Riverbend Road, Athens, GA 30602. Instrument: (Two) Plant Growth Chambers, Model GC8-2H. Manufacturer: Enconair Ecological Chambers, Canada. Intended Use: The instrument is intended to be used for studies of plants that have been recovered from cell culture for the purpose of determining gene function by expressing the genes in genetically engineered plants. Application accepted by Commissioner of Customs: September 13, 2000.

Frank W. Creel,
Director, Statutory Import Programs Staff.

[FR Doc. 00-25466 Filed 10-3-00; 8:45 am]

BILLING CODE 3510-DS-P